DEPARTMENT OF ENERGY

Federal Energy Regulatory Commission

[Docket No. CP12-57-000]

Williston Basin Interstate Pipeline Company; Notice of Request Under Blanket Authorization

Take notice that on February 6, 2012, Williston Basin Interstate Pipeline Company (Williston Basin), 1250 West Century Avenue, Bismarck, North Dakota 58503, filed in Docket No. CP12-57-000, an application pursuant to section 157.21 of the Commission's Regulations under the Natural Gas Act (NGA) as amended, to replace natural gas compression facilities at its Elk Basin compressor station in Park County, Wyoming, under Williston Basin's blanket certificate issued in Docket No. CP82-487-000 et al., ¹ all as more fully set forth in the application which is on file with the Commission and open to the public for inspection.

¹ 30 FERC ¶ 61,143 (1985).

Williston Basin proposes to replace two natural gas-fired 225-horsepower (HP) compressor units installed in 1941, two natural gas-fired 330-HP compressor units installed in 1950, and one natural gas-fired 1,100-HP compressor unit installed in 1970 with one electric-driven 2,500-HP compressor unit. Williston Basin states that the new 2,500-HP electric compressor unit will also increase the certificated horsepower at the Elk Basin compressor station from 4,610 HP to 4,900 Hp. Williston Basin estimates that the proposed electric replacement compressor unit would cost $8,706,486 to install.

Any questions concerning this application may be directed to Keith A. Tiggelaar, Director of Regulatory Affairs, Williston Basin Interstate Pipeline Company, 1250 West Century Avenue, Bismarck, North Dakota 58503, telephone (701) 530-1560 or Email: keith.tiggelaar@wbip.com.

This filing is available for review at the Commission or may be viewed on the Commission's web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: February 10, 2012.
Kimberly D. Bose,
Secretary.

[FR Doc. 2012-3817 Filed 2-17-12; 8:45 am]

BILLING CODE 6717-01-P